DEPARTMENT OF EDUCATION

34 CFR Part 361

[Docket ID ED-2021-OSERS-04]

Proposed Guidance; Frequently Asked Questions: Criterion for an Integrated Employment Location in the Definition of “Competitive Integrated Employment” and Participant Choice

AGENCY: Office of Special Education and Rehabilitative Services, Department of Education.

ACTION: Notice of proposed guidance.

SUMMARY: The U.S. Department of Education seeks public comment on proposed guidance that clarifies the Department's policy on the criterion for an integrated employment location in the definition of “competitive integrated employment,” for purposes of the State Vocational Rehabilitation (VR) Services program. The proposed guidance clarifies, updates, and supersedes the Department's guidance titled Frequently Asked Questions: Integrated Location Criteria of the Definition of “Competitive Integrated Employment” issued on January 17, 2017.

DATES: We must receive your comments on or before April 8, 2021.

ADDRESSES: Submit your comments through the Federal eRulemaking portal. We will not accept comments submitted by fax or by email or those submitted after the comment period. To ensure that we do not receive duplicate copies, please submit your comments only once. In addition, please include the docket ID at the top of your comments.

• Federal eRulemaking Portal: Go to www.regulations.gov to submit your comments electronically. Information on using Regulations.gov, including instructions for accessing agency documents, submitting comments, and viewing the docket, is available on the site under “Help.”

Privacy Note: The Department's policy is to make all comments received from members of the public available for public viewing in their entirety on the Federal eRulemaking Portal at www.regulations.gov. Therefore, commenters should be careful to include in their comments only information that they wish to make publicly available.

FOR FURTHER INFORMATION CONTACT: Carol Dobak, U.S. Department of Education, 400 Maryland Avenue SW, Room 5153, Potomac Center Plaza, Washington, DC 20202-5076. Telephone: (202) 245-7325. Email: carol.dobak@ed.gov.

If you use a telecommunications device for the deaf (TDD) or a text telephone (TTY), call the Federal Relay Service (FRS), toll free, at 1-800-877-8339.

SUPPLEMENTARY INFORMATION: Invitation to Comment: We invite you to submit comments on the proposed guidance. See ADDRESSES for instructions on how to submit comments.

Assistance to Individuals with Disabilities in Reviewing the Record: On request, we will provide an appropriate accommodation or auxiliary aid to an individual with a disability who needs assistance to review the comments or other documents in the public record for this notice. If you want to schedule an appointment for this type of aid, please contact the person listed under FOR FURTHER INFORMATION CONTACT.

Background: The Department describes the background for the proposed guidance, and our reasons for proposing the guidance, in the proposed guidance document. The proposed guidance is available at https://rsa.ed.gov/sub-regulatory-guidance/rsa-frequently-asked-questions-criterion-integrated-employment-location. The proposed guidance is not a “significant guidance document” under Executive Order 13891.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or portable document format (PDF). To use PDF you must have Adobe Acrobat Reader, which is available free at the site.

You may also access documents of the Department published in the Federal Register by using the article search feature at www.federalregister.gov. Specifically, through the advanced search feature at this site, you can limit your search to documents published by the Department.

David Cantrell,
Deputy Director, Office of Special Education Programs. Delegated the authority to perform the functions and duties of the Assistant Secretary for Special Education and Rehabilitative Services.

[FR Doc. 2021-04564 Filed 3-8-21; 8:45 am]

BILLING CODE 4000-01-P